DEPARTMENT OF COMMERCE

Economic Development Administration

Notice of Petitions by Producing Firms for Determination of Eligibility To Apply for Trade Adjustment Assistance

AGENCY: Economic Development Administration, Commerce.

ACTION: To give firms an opportunity to comment.

Petitions Have Been Accepted for Filing on the Dates Indicated From the Firms Listed Below

List of Petition Action by Trade Adjustment Assistance for Period 9/14/00-10/19/01
Firm name | Address | Date petition accepted | Product
Matrix Tool, Inc | 4976 Franklin Avenue, Fairview, PA 16415 | 09/17/01 | Plastic molds and plastic molded components including electical connectors for automobiles and telecommunication equipment.
Vermont Honeylights, Inc | 394 Rockydale Road, Bristol, VT 05443 | 09/17/01 | Hand-rolled and molded beeswax candles and molded wax statuary and home decorations.
H. R. Simon Co., Inc | 3515 Marmenco Court, Baltimore, MD 21230 | 09/19/01 | X-ray chemicals for the developing process used in the medical industry.
Eagle Bronze, Inc | 130 Poppy Street, Lander, WY 82520 | 09/21/01 | Bronze sculptures.
Micropulse, Inc | 5865 E. State Road, Columbia City, IN 46725 | 09/21/01 | Automated manufacturing machinery.
Valbert Corporation | 19300 144th Ave., N.E., Woodinville, WA 98072 | 09/27/01 | Instrument control panels, wire harnesses, electronic programmable controllers and other control systems for various industries.
Consolidated Steel Services, Inc | P.O. Box 369, Cresson, PA 16630 | 09/27/01 | Railroad tracks fixtures and parts.
Orion Healthcare Technology, Inc | 1823 Harney Street, Omaha, NE 68102 | 09/27/01 | Software to reduce medical errors and provide assessments to addiction sciences.
Intermix Distributors, Inc | 1133 Barranca Drive, El Paso, TX 79935 | 09/28/01 | Tortillas, chorizo and barbacoa.
Circuit Services, Inc | 27-24th Street, Kenner, LA 70062 | 09/28/01 | Printed circuits.
Associated Plastics Corporation | 502 Eric Wolbur Avenue, Ada, Ohio 45180 | 09/28/01 | Injection molded plastic components.
Magdesian Brothers, Inc | 730 Fifth Avenue, Industry, CA 91746 | 09/28/01 | Women's shoes primarily of leather.
Moore Industries International, Inc | 16650 Schoenborn Street, Sepulveda, CA 91343 | 09/28/01 | Electronic instrumentation used to monitor and control industrial processes.
Signup, Inc dba Multimedia | 3300 Monier Circle, Rancho Cordova, CA 95742 | 09/28/01 | Electronic signage.
Powis-Parker, Inc | 775 Heinz Avenue, Berkeley, CA 94710 | 09/28/01 | Binding machines and accessories i.e., covers, ink, strips and glue.
Trailer Equipment Manufacturing Co., Inc | 1326 East Street, Minden, LA 71055 | 10/10/01 | Trailer jacks.
Helio Precision Products | 601 N. Skokie Highway, Lake Bluff, IL 60044 | 10/10/01 | Valve guides, shafts and transmissions for diesel engines.
Cheraw Yarn Mill, Inc | U.S. Highway 1 South, Cheraw, SC 29520 | 10/10/01 | Cotton yarn for the apparel.
Standard Fusee Corp. d.b.a. Orion Safety Products | 28320 St. Michaels Rd., Easton, MD 21601 | 10/11/01 | Flares for the transportation industry.
Leedon Webbing Co., Inc | 86 Tremont Street, Central Falls, RI 02863 | 10/16/01 | Narrow fabric webbing used in apparel and accessories, sporting goods and various industrial uses.
Chardan Corporation | 9610 County Road 14, Wauseon, OH 43567 | 10/16/01 | Molded cross linked polyethylene foam padding for use in the athletic, industrial hospital, automative office supply and toy industries.
Nuvonyx, Ind. | 3753 Pennridge Drive, Bridgeton, MO 63044 | 10/17/01 | Robotic direct laser welding systems.
HTM USA Holdings, Inc d.b.a. Penn Racquet Sports | 306 45th Avenue, Phoenix, AZ 85043 | 10/18/01 | Tennis balls.
Chace Leather Products, Inc | 507 Alden Street, Falls River, MA 02722 | 10/18/01 | Leather, simulated leather and nylon goods.
Miss Beckey Seafood, Inc, d.b.a. Safe Harbor Seafood | 4371 Ocean Street, Mayport, FL 32233 | 10/19/01 | Shrimp, fish and other seafood.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm.

Any party having a substantial interest in the proceedings may request a public hearing on the matter. A request for a hearing must be received by Trade Adjustment Assistance, Room 7315, Economic Development Administration, U.S. Department of Commerce, Washington, DC 20230, no later than the close of business of the tenth calendar day following the publication of this notice.

The Catalog of Federal Domestic Assistance official program number and title of the program under which these petitions are submitted is 11.313, Trade Adjustment Assistance.

Dated: October 23, 2001.
Anthony J. Meyer,
Coordinator, Trade Adjustment and Technical Assistance.

[FR Doc. 01-27097 Filed 10-26-01; 8:45 am]

BILLING CODE 3510-24-P